SURFACE TRANSPORTATION BOARD

[Docket No. FD 36565]

LVR Railroad LLC—Acquisition and Operation Exemption—Landisville Railroad, LLC

LVR Railroad LLC (LVR), a noncarrier, has filed a verified notice of exemption under 49 CFR 1150.31 to acquire from Landisville Railroad, LLC (Landisville), and operate a rail line located between approximately milepost 30.77, at the connection with Norfolk Southern Railway Company on the Harrisburg Line, owned by National Railroad Passenger Corporation (Amtrak), and approximately milepost 32.69, at the end of the track, north of Stony Battery Road, in West Hempfield, Lancaster County, Pa. (the Line).

The verified notice states that LVR and Landisville will shortly execute a purchase agreement under which LVR will purchase the Line from Landisville. LVR states that it intends to provide common carrier service over the Line upon consummation of the proposed transaction.

LVR certifies that its projected annual revenues as a result of this transaction will not exceed the maximum revenue of a Class III rail carrier and will not exceed $5 million. LVR also certifies that the subject agreements do not contain any provisions that would limit LVR's future interchange of traffic on the Line with a third-party connecting carrier.

The earliest this transaction may be consummated is January 7, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 30, 2021 (at least seven days before the exemption becomes effective).

All pleadings, referring to Docket No. FD 36565, should be filed with the Surface Transportation Board via e-filing on the Board's website. In addition, a copy of each pleading must be served on LVR's representative, Audrey L. Brodrick, Fletcher & Sippel LLC, 29 North Wacker Drive, Suite 800, Chicago, IL 60606.

According to LVR, this action is categorically excluded from environmental review under 49 CFR 1105.6(c) and from historic preservation reporting requirements under 49 CFR 1105.8(b).

Board decisions and notices are available at www.stb.gov.

Decided: December 20, 2021.
By the Board, Scott M. Zimmerman, Acting Director, Office of Proceedings.
Eden Besera,
Clearance Clerk.

[FR Doc. 2021-27850 Filed 12-22-21; 8:45 am]

BILLING CODE 4915-01-P